PEACE CORPS

Notice of Request for a Revision of a Currently Approved Information Collection and Request for a New OMB Control Number.

ACTION: 30-day notice and request for comments.

SUMMARY: The Peace Corps will be submitting the following information collection requests to the Office of Management and Budget (OMB) for Revision of a currently approved information collection. In compliance with the Paperwork Reduction Act of 1995 (44 USC Chapter 35), the Peace Corps invites the general public to comment on the extension, with change, of currently approved information collection, Peace Corps Volunter Medical Application Health Status Review (OMB 0420-0510) which consist of three forms: The Health Status Review form (PC 1789); the Report of Medical Exam (PC 1790 S); and, Dental Exam (PC 1790). The Peace Corps wants to remove the Dental Exam (PC 1790) from OMB 0420-0510 and request a new OMB Control Number for Dental Exam (PC 1790). This process is conducted in accordance with 5 CFR 1320.10.

DATES: Comments regarding this collection must be received on or before July 8, 2011.

ADDRESSES: Interested persons are invited to submit comments regarding this proposal. Comments should refer to the proposal by name/or OMB approval number and should be sent via e-mail to: oira_submission@omb.eop.gov or fax to: 202-395-3086. Attention: Desk Officer for Peace Corps.

FOR FURTHER INFORMATION CONTACT: Denora Miller, FOIA Officer, Peace Corps, 1111 20th Street, NW., Washington, DC 20526, (202) 692-1236, or e-mail at pcfr@mailto:ddunevant@peacecorps.govpeacecorps.gov. Copies of available documents submitted to OMB may be obtained from Denora Miller.

SUPPLEMENTARY INFORMATION: Title: Peace Corps Volunter Medical Application Health Status Review which consist of three forms: The Health Status Review form (PC 1789); the Report of Medical Exam (PC 1790 S); and, the Dental Exam (PC 1790).

OMB Control Number: 0420-0510.

Type of Request: Revision of a currently approved information collection. Peace Corps seeks to remove the Dental Exam (PC 1790) from this collection.

Respondents: Potential and current volunteers.

Burden to the Public:

| Health Status Review (PC 1789) | Report of Medical Evaluation (PC 1790 S) | Report of Dental Evaluation (PC 1790)
a. Estimated number of respondents | 9,700 | 5,000 | 5,000.
b. Estimated average burden per response | 45 minutes | 45 minutes | 45 minutes.
c. Frequency of response | one time | one time | one time.
d. Annual reporting burden | 7,275 hours | 3,750 hours | 3,750 hours.
e. Estimated annual cost to respondents | $175,546 | $90,488 | $90,488.

Needs and Uses: The information collected is required for consideration for Peace Corps Volunteer service. The Health Status Review is used to review the medical history of individual applicants. The Report of Medical Exam and the Report of Dental Exam are used by the examining physician and dentist both for applicants and for currently serving Volunteers. The results of these examinations are used to ensure that applicants for Volunteer service will, with reasonable accommodation, be able to serve in the Peace Corps without jeopardizing their health.

This notice is issued in Washington, DC on May 31, 2011.
Earl W. Yates,
Associate Director, Management.

[FR Doc. 2011-14222 Filed 6-7-11; 8:45 am]

BILLING CODE 6051-01-P